Title 3—

The President

Executive Order 13934 of July 3, 2020

Building and Rebuilding Monuments to American Heroes

By the authority vested in me as President by the Constitution and the laws of the United States of America, it is hereby ordered as follows:

Section 1. Purpose. America owes its present greatness to its past sacrifices. Because the past is always at risk of being forgotten, monuments will always be needed to honor those who came before. Since the time of our founding, Americans have raised monuments to our greatest citizens. In 1784, the legislature of Virginia commissioned the earliest statue of George Washington, a “monument of affection and gratitude” to a man who “unit[ed] to the endowment[s] of the Hero the virtues of the Patriot” and gave to the world “an Immortal Example of true Glory.” I Res. H. Del. (June 24, 1784). In our public parks and plazas, we have erected statues of great Americans who, through acts of wisdom and daring, built and preserved for us a republic of ordered liberty.

These statues are silent teachers in solid form of stone and metal. They preserve the memory of our American story and stir in us a spirit of responsibility for the chapters yet unwritten. These works of art call forth gratitude for the accomplishments and sacrifices of our exceptional fellow citizens who, despite their flaws, placed their virtues, their talents, and their lives in the service of our Nation. These monuments express our noblest ideals: respect for our ancestors, love of freedom, and striving for a more perfect union. They are works of beauty, created as enduring tributes. In preserving them, we show reverence for our past, we dignify our present, and we inspire those who are to come. To build a monument is to ratify our shared national project.

To destroy a monument is to desecrate our common inheritance. In recent weeks, in the midst of protests across America, many monuments have been vandalized or destroyed. Some local governments have responded by taking their monuments down. Among others, monuments to Christopher Columbus, George Washington, Thomas Jefferson, Benjamin Franklin, Francis Scott Key, Ulysses S. Grant, leaders of the abolitionist movement, the first all-volunteer African-American regiment of the Union Army in the Civil War, and American soldiers killed in the First and Second World Wars have been vandalized, destroyed, or removed.

These statues are not ours alone, to be discarded at the whim of those inflamed by fashionable political passions; they belong to generations that have come before us and to generations yet unborn. My Administration will not abide an assault on our collective national memory. In the face of such acts of destruction, it is our responsibility as Americans to stand strong against this violence, and to peacefully transmit our great national story to future generations through newly commissioned monuments to American heroes.

Sec. 2. Task Force for Building and Rebuilding Monuments to American Heroes. (a) There is hereby established the Interagency Task Force for Building and Rebuilding Monuments to American Heroes (Task Force). The Task Force shall be chaired by the Secretary of the Interior (Secretary), and shall include the following additional members:

(i) the Administrator of General Services (Administrator);

(ii) the Chairperson of the National Endowment for the Arts (NEA);

(iii) the Chairperson of the National Endowment for the Humanities (NEH);

(iv) the Chairman of the Advisory Council on Historic Preservation (ACHP); and

(v) any officers or employees of any executive department or agency (agency) designated by the President or the Secretary.

(b) The Department of the Interior shall provide funding and administrative support as may be necessary for the performance and functions of the Task Force. The Secretary shall designate an official of the Department of the Interior to serve as the Executive Director of the Task Force, responsible for coordinating its day-to-day activities.

(c) The Chairpersons of the NEA and NEH and the Chairman of the ACHP shall establish cross-department initiatives within the NEA, NEH, and ACHP, respectively, to advance the purposes of the Task Force and this order and to coordinate relevant agency operations with the Task Force.

Sec. 3. National Garden of American Heroes. (a) It shall be the policy of the United States to establish a statuary park named the National Garden of American Heroes (National Garden).

(b) Within 60 days of the date of this order, the Task Force shall submit a report to the President through the Assistant to the President for Domestic Policy that proposes options for the creation of the National Garden, including potential locations for the site. In identifying options, the Task Force shall:

(i) strive to open the National Garden expeditiously;

(ii) evaluate the feasibility of creating the National Garden through a variety of potential avenues, including existing agency authorities and appropriations; and

(iii) consider the availability of authority to encourage and accept the donation or loan of statues by States, localities, civic organizations, businesses, religious organizations, and individuals, for display at the National Garden.

(c) In addition to the requirements of subsection 3(b) of this order, the proposed options for the National Garden should adhere to the criteria described in subsections (c)(i) through (c)(vi) of this section.

(i) The National Garden should be composed of statues, including statues of John Adams, Susan B. Anthony, Clara Barton, Daniel Boone, Joshua Lawrence Chamberlain, Henry Clay, Davy Crockett, Frederick Douglass, Amelia Earhart, Benjamin Franklin, Billy Graham, Alexander Hamilton, Thomas Jefferson, Martin Luther King, Jr., Abraham Lincoln, Douglas MacArthur, Dolley Madison, James Madison, Christa McAuliffe, Audie Murphy, George S. Patton, Jr., Ronald Reagan, Jackie Robinson, Betsy Ross, Antonin Scalia, Harriet Beecher Stowe, Harriet Tubman, Booker T. Washington, George Washington, and Orville and Wilbur Wright.

(ii) The National Garden should be opened for public access prior to the 250th anniversary of the proclamation of the Declaration of Independence on July 4, 2026.

(iii) Statues should depict historically significant Americans, as that term is defined in section 7 of this order, who have contributed positively to America throughout our history. Examples include: the Founding Fathers, those who fought for the abolition of slavery or participated in the underground railroad, heroes of the United States Armed Forces, recipients of the Congressional Medal of Honor or Presidential Medal of Freedom, scientists and inventors, entrepreneurs, civil rights leaders, missionaries and religious leaders, pioneers and explorers, police officers and firefighters killed or injured in the line of duty, labor leaders, advocates for the poor and disadvantaged, opponents of national socialism or international socialism, former Presidents of the United States and other elected officials, judges and justices, astronauts, authors, intellectuals, artists, and teachers. None will have lived perfect lives, but all will be worth honoring, remembering, and studying.

(iv) All statues in the National Garden should be lifelike or realistic representations of the persons they depict, not abstract or modernist representations.

(v) The National Garden should be located on a site of natural beauty that enables visitors to enjoy nature, walk among the statues, and be inspired to learn about great figures of America's history. The site should be proximate to at least one major population center, and the site should not cause significant disruption to the local community.

(vi) As part of its civic education mission, the National Garden should also separately maintain a collection of statues for temporary display at appropriate sites around the United States that are accessible to the general public.

Sec. 4. Commissioning of New Statues and Works of Art. (a) The Task Force shall examine the appropriations authority of the agencies represented on it in light of the purpose and policy of this order. Based on its examination of relevant authorities, the Task Force shall make recommendations for the use of these agencies' appropriations.

(b) To the extent appropriate and consistent with applicable law and the other provisions of this order, Task Force agencies that are authorized to provide for the commissioning of statues or monuments shall, in expending funds, give priority to projects involving the commissioning of publicly accessible statues of persons meeting the criteria described in section 3(b)(iii) of this order, with particular preference for statues of the Founding Fathers, former Presidents of the United States, leading abolitionists, and individuals involved in the discovery of America.

(c) To the extent appropriate and consistent with applicable law, these agencies shall prioritize projects that will result in the installation of a statue as described in subsection (b) of this section in a community where a statue depicting a historically significant American was removed or destroyed in conjunction with the events described in section 1 of this order.

(d) After consulting with the Task Force, the Administrator of General Services shall promptly revise and thereafter operate the General Service Administration's (GSA's) Art in Architecture (AIA) Policies and Procedures, GSA Acquisition Letter V-10-01, and Part 102-77 of title 41, Code of Federal Regulations, to prioritize the commission of works of art that portray historically significant Americans or events of American historical significance or illustrate the ideals upon which our Nation was founded. Priority should be given to public-facing monuments to former Presidents of the United States and to individuals and events relating to the discovery of America, the founding of the United States, and the abolition of slavery. Such works of art should be designed to be appreciated by the general public and by those who use and interact with Federal buildings. Priority should be given to this policy above other policies contained in Part 102-77 of title 41, Code of Federal Regulations, and revisions made pursuant to this subsection shall be made to supersede any regulatory provisions of AIA that may conflict with or otherwise impede advancing the purposes of this subsection.

(e) When a statue or work of art commissioned pursuant to this section is meant to depict a historically significant American, the statue or work of art shall be a lifelike or realistic representation of that person, not an abstract or modernist representation.

Sec. 5. Educational Programming. The Chairperson of the NEH shall prioritize the allocation of funding to programs and projects that educate Americans about the founding documents and founding ideals of the United States, as appropriate and to the extent consistent with applicable law, including section 956 of title 20, United States Code. The founding documents include the Declaration of Independence, the Constitution, and the Federalist Papers. The founding ideals include equality under the law, respect for inalienable individual rights, and representative self-government. Within 90 days of the conclusion of each Fiscal Year from 2021 through 2026, the Chairperson shall submit a report to the President through the Assistant to the President for Domestic Policy that identifies funding allocated to programs and projects pursuant to this section.

Sec. 6. Protection of National Garden and Statues Commissioned Pursuant to this Order. The Attorney General shall apply section 3 of Executive Order 13933 of June 26, 2020 (Protecting American Monuments, Memorials, and Statues and Combating Recent Criminal Violence), with respect to violations of Federal law regarding the National Garden and all statues commissioned pursuant to this order.

Sec. 7. Definition. The term “historically significant American” means an individual who was, or became, an American citizen and was a public figure who made substantive contributions to America's public life or otherwise had a substantive effect on America's history. The phrase also includes public figures such as Christopher Columbus, Junipero Serra, and the Marquis de La Fayette, who lived prior to or during the American Revolution and were not American citizens, but who made substantive historical contributions to the discovery, development, or independence of the future United States.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 3, 2020.

[FR Doc. 2020-14872

Filed 7-7-20; 11:15 am]

Billing code 3295-F0-P